FEDERAL COMMUNICATIONS COMMISSION

Notice of Public Information Collection(s) Being Reviewed by the Federal Communications Commission for Extension Under Delegated Authority, Comments Requested

November 17, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 26, 2001. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0190.

Title: Section 73.3544—Application to obtain a modified station license.

Form No.: n/a.

Type of Review: Revision of currently approved collection.

Respondents: Business or other for-profit; Not-for-profit institutions.

Number of Respondents: 325.

Estimated Hours Per Response: 2 hours for informal applications (These hours include the contracting hour cost to the respondents and the respondents hour burden)/0.25 hours for notifications.

Frequency of Response: On occasion.

Cost to Respondents: $45,000.

Estimated Total Annual Burden: 306 hours.

Needs and Uses: Section 73.3544(b) sets forth the filing procedures for broadcast licensees to obtain a modified station license when prior authority is not required to make changes to the station. Licensees are required to notify the FCC in writing when there is a change in the name of the licensee where there is no change in ownership or control. An informal application (written request) may be filed by licensees: (1) Correcting the routing instructions and description of an AM station directional antenna system field monitoring point, when that point is not changed; (2) changing the type of AM station directional antenna monitor; (3) changing the location of the station main studio; or (4) changing the location of a remote control point of an AM or FM station.

TV or FM licensees changing the type of transmitting antenna or output power of their transmitter must file the appropriate license application form (FCC Form 302-FM/302-TV, 3060-0506/0029) with the FCC.

Section 73.3544(c) allows licensees to provide written notification when a change in the name of the licensee occurs where no change in ownership or control is involved.

The data is used by FCC staff to ensure changes are in accordance with FCC rules and regulations and to issue a modified station license.

OMB Approval No.: 3060-0488.

Title: Section 73.30—Petition for authorization of an allotment in the 1605-1705 kHz band.

Form No.: n/a.

Type of Review: Extension of currently approved collection.

Respondents: Business or other for-profit.

Number of Respondents: 1.

Estimated Hours Per Response: 2 hours (1 hour respondent/1 hour contracting attorney).

Frequency of Response: On occasion.

Cost to Respondents: $200.

Estimated Total Annual Burden: 1 hour.

Needs and Uses: Section 73.30(a) requires any party interested in applying for an AM broadcast station to be operated on one of the ten channels in the 1605-1705 kHz band must first file a petition for the establishment of an allotment to its proposed community of service. Each petition must include the following information: (1) Name of community for which allotment is sought; (2) station call letters; (3) frequency of its licensed operation; and (4) whether operation with stereo is proposed.

The data is used by FCC staff to determine whether applicant meets basic technical requirements to migrate to the expanded band.

OMB Approval No.: 3060-0182.

Title: Section 73.1620—Program tests.

Form No.: n/a.

Type of Review: Extension of currently approved collection.

Respondents: Business or other for-profit, Not-for profit institutions.

Number of Respondents: 1416.

Estimated Hours Per Response: 1 hour—5 hours (1 hour for Sections 73.1620(a)-(f); 5 hours for Section 73.1620(g)).

Frequency of Response: On occasion.

Cost to Respondents: $0.

Estimated Total Annual Burden: 1480 hours.

Needs and Uses: Section 73.1620(a)(1) requires permittees of a nondirectional AM or FM station, or a nondirectional or directional TV station to notify the FCC upon beginning of program tests. An application for license must be filed within 10 days of this notification. Section 73.1620(a)(2) requires a permittee of an AM or FM station with a directional antenna to file a request for program test authority 10 days prior to date on which it desires to begin program tests. This is filed in conjunction with an application for license. Section 73.1620(f) requires licensees of UHF TV stations, assigned to the same allocated channel which a 1000 watt UHF translator station is authorized to use, to notify the licensee of the translator station at least 10 days prior to commencing or resuming operation and certify to the FCC that such advance notice has been given. Section 73.1620(g) requires permittees to report any deviations from their promises, if any, in their application for license to cover their construction permit (FCC Form 302) and on the first anniversary of their commencement of program tests. The notification in Section 73.1620(a) alerts the Commission that construction of a station has been completed and that the station is broadcasting program material. The notification in Section 73.1620(f) alerts the UHF translator station that the potential of interference exists. The report in Section 73.1620(g) stating deviations are necessary to eliminate possible abuses of the FCC's processes and to ensure that comparative promises relating to service to the public are not inflated.

OMB Approval No.: 3060-0187.

Title: Section 73.3594—Local public notice of designation for hearing.

Form No.: n/a.

Type of Review: Extension of currently approved collection.

Respondents: Business or other for-profit.

Number of Respondents: 6.

Estimated Hours Per Response: 3 hours (These hours include the contracting hour cost to the respondents and the respondents hour burden).

Frequency of Response: On occasion.

Cost to Respondents: $9,898.

Estimated Total Annual Burden: 12 hours.

Needs and Uses: Section 73.3594 requires that applicants of any AM, FM or TV broadcast station designated for hearing must give notice of such designation. Section 73.3594(a) requires that this notice be given in a daily newspaper of general circulation published in the community in which the station is or will be located. This notice must be published twice a week for two consecutive weeks. Section 73.3594(b) requires applicants for modification, assignment, transfer or renewal of an operating broadcast station to give notice over the broadcast station in addition to publishing the notice in a daily newspaper. Section 73.3594(g) requires that applicant file a statement with the FCC setting forth information regarding the publication or broadcast. This notice gives interested parties an opportunity to respond.

OMB Approval Number: 3060-0308.

Title: Section 90.505—Developmental operation, showing required.

Form No.: N/A.

Type of Review: Extension of existing collection.

Respondents: Business or other for-profit, not-for-profit institutions, State, Local or Tribal government.

Number of Respondents: 100.

Estimated Time Per Response: 2 hours per response.

Total Annual Burden: 200 hours.

Total Annual Cost: No annual cost burden on respondents from either capital or start-up costs.

Needs and Uses: The information collection requirement contained in Section 90.505 is needed to gather data on developmental programs for which a developmental authorization is sought. The information is used to evaluate the desirability of issuing such an authorization from spectrum use and interference potential considerations. If the information was not collected the value of developmental programs would be severely limited.

Federal Communications Commission.
Magalie Roman Salas,
Secretary.

[FR Doc. 00-30058 Filed 11-24-00; 8:45 am]

BILLING CODE 6712-01-U